DEPARTMENT OF DEFENSE

Office of the Secretary

Threat Reduction Advisory Committee; Notice of Federal Advisory Committee Meeting

AGENCY: Office of the Under Secretary of Defense (Acquisition, Technology and Logistics), Department of Defense.

ACTION: Federal Advisory Committee Meeting Notice.

SUMMARY: The Department of Defense announces the following Federal advisory committee meeting of the Threat Reduction Advisory Committee (TRAC). This meeting will be closed to the public.

DATES: Tuesday, April 21, from 9:00 a.m. to 4:30 p.m. and Wednesday, April 22, 2015, from 8:30 a.m. to 2:15 p.m.

ADDRESSES: CENTRA Technology Inc., Ballston, Virginia on April 21 and CENTRA Technology Inc., Ballston, Virginia and the Pentagon, Arlington, Virginia on April 22.

FOR FURTHER INFORMATION CONTACT: Mr. William Hostyn, DoD, Defense Threat Reduction Agency J2/5/8R-AC, 8725 John J. Kingman Road, MS 6201, Fort Belvoir, VA 22060-6201. Email: william.p.hostyn.civ@mail.mil. Phone: (703) 767-4453. Fax: (703) 767-4206.

SUPPLEMENTARY INFORMATION: Due to difficulties beyond the control of the Designated Federal Officer, the Department of Defense was unable to finalize the meeting announcement for the scheduled meeting of the Threat Reduction Advisory Committee on April 21-22, 2015, to ensure compliance with 41 CFR 102-3.150(a). Accordingly, the Advisory Committee Management Officer for the Department of Defense, pursuant to 41 CFR 102-3.150(b), waives the 15-calendar day notification requirement.

Purpose of Meeting: This meeting is being held under the provisions of the Federal Advisory Committee Act of 1972 (FACA) (5 U.S.C., Appendix, as amended), the Government in the Sunshine Act of 1976 (5 U.S.C. 552b, as amended), and 41 CFR 102-3.150. The TRAC will obtain, review and evaluate classified information related to the TRAC's mission to advise on technology security, combating weapons of mass destruction (CWMD), counterterrorism, and counterproliferation.

Agenda: On Tuesday, April 21, the meeting will open with classified opening remarks from the TRAC Chairperson. The TRAC will then receive a classified intelligence briefing from the Defense Intelligence Agency and the Central Intelligence Agency focused on Russian actions and current events as related to weapons of mass destruction. Following the intelligence update, the TRAC will have a working lunch and the group will discuss classified WMD issues as related to North Korea. The TRAC will then discuss two current TRAC taskings, at the classified level. These taskings include recommended changes to the current DoD role in the Global Health Security Agenda (GHSA) using the DoD response to the Ebola crisis in West Africa and Nuclear Strategic Stability (NSS) in light of current world events. Following the current taskings, the TRAC will discuss, at the classified level, emerging issues facing the Defense Threat Reduction Agency and U.S. Strategic Command Center for Combating Weapons of Mass Destruction at the request of the Under Secretary of Defense for Acquisition, Technology and Logistics. To conclude the day, the TRAC will deliberate on information received about the GHSA and NSS efforts.

The TRAC will continue to meet on April 22, 2015. The TRAC Chairperson will summarize the previous day's information and discuss the way forward. Subsequently, the group will receive a classified brief from Ambassador Linton Brooks on Russian actions and implications of these actions on U.S./Russian future activities. Following Ambassador Brooks' presentation, the TRAC will hear from experts on the situation in Ukraine, at the classified level. The TRAC will continue discussion over a working lunch where they will review the topics they intend to brief senior leaders at the Pentagon later that afternoon.

The TRAC will then transition to the Pentagon where the members will provide the DoD senior leaders with an out brief from the meeting.

Meeting Accessibility: Pursuant to 5 U.S.C. 552b and 41 CFR 102-3.155, the Department of Defense has determined that the meeting of the TRAC on April 21-22, 2015, shall be closed to the public. The Under Secretary of Defense for Acquisition, Technology and Logistics, in consultation with the DoD FACA Attorney, has determined in writing that the public interest requires all sessions of this meeting be closed to the public because the discussions and sharing of information will be concerned with classified information and matters covered by 5 U.S.C. 552b(c)(1). Such classified matters are inextricably intertwined with the unclassified material and cannot reasonably be segregated into separate discussions without disclosing secret material.

Advisory Committee's Designated Federal Officer or Point of Contact:

Mr. William Hostyn, DoD, Defense Threat Reduction Agency J2/5/8R-ACP, 8725 John J. Kingman Road, MS 6201, Fort Belvoir, VA 22060-6201. Email: william.p.hostyn.civ@mail.mil. Phone: (703) 767-4453. Fax: (703) 767-4206.

Written Statements: Pursuant to section 10(a)(3) of FACA and 41 CFR 102-3.105(j) and 102-3.140, the public or interested organizations may submit written statements to the membership of the TRAC at any time regarding its mission or in response to the stated agenda of a planned meeting. Written statements should be submitted to the TRAC's Designated Federal Officer. The Designated Federal Officer's contact information is listed in the section immediately above or it can be obtained from the General Services Administration's FACA Database: http://www.facadatabase.gov/committee/committee.aspx?cid=1663&aid=41.

Written statements that do not pertain to a scheduled meeting of the TRAC may be submitted at any time. However, if individual comments pertain to a specific topic being discussed at a planned meeting, then these statements must be submitted no later than five business days prior to the meeting in question. The Designated Federal Officer will review all submitted written statements and provide copies to all TRAC members.

Dated: April 6, 2015.
Aaron Siegel,
Alternate OSD Federal Register Liaison Officer, Department of Defense.

[FR Doc. 2015-08212 Filed 4-9-15; 08:45 am]

BILLING CODE 5001-06-P